DEPARTMENT OF COMMERCE

National Oceanic and Atmospheric Administration

50 CFR Part 600

[Docket No. 111014628-3329-01]

RIN 0648-BB54

Magnuson-Stevens Act Provisions; Implementation of the Shark Conservation Act of 2010; Extension of Comment Period

AGENCY: National Marine Fisheries Service (NMFS), National Oceanic and Atmospheric Administration (NOAA), Commerce.

ACTION: Proposed rule; extension of comment period.

SUMMARY: NMFS published a proposed rule on May 2, 2013, to implement provisions of the Shark Conservation Act of 2010 (SCA) that prohibit any person from removing any of the fins of a shark at sea, possessing shark fins on board a fishing vessel unless they are naturally attached to the corresponding carcass, transferring or receiving fins from one vessel to another at sea unless the fins are naturally attached to the corresponding carcass, landing shark fins unless they are naturally attached to the corresponding carcass, or landing shark carcasses without their fins naturally attached. NMFS proposes this action to amend existing regulations and make them consistent with the SCA. The public comment period for the proposed rule was previously extended, and ends on July 8, 2013. NMFS has decided to further extend the public comment period for 23 days, until July 31, 2013 to provide additional time for stakeholders and other members of the public to submit comments.

DATES: The public comment period for the proposed rule published at 78 FR 25685, May 2, 2013, is extended from July 8, 2013, until July 31, 2013. Comments must be received no later than July 31, 2013.

ADDRESSES: You may submit comments on this document, identified by NOAA-NMFS-2012-0092, by any of the following methods:

• Electronic Submission: Submit all electronic public comments via the Federal e-Rulemaking Portal www.regulations.gov. To submit comments via the e-Rulemaking Portal, first click the “submit a comment” icon, then enter NOAA-NMFS-2012-0092 in the keyword search. Locate the document you wish to comment on from the resulting list and click on the “Submit a Comment” icon on the right of that line.

• Mail: Submit written comments to Erin Wilkinson, National Marine Fisheries Service (SF3), NOAA; 1315 East-West Highway, Silver Spring, MD 20910.

• Fax 301-713-1193; Attn: Erin Wilkinson

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the Environmental Assessment (EA), the Regulatory Impact Review (RIR), and the Initial Regulatory Flexibility Analysis (IRFA) prepared for this action are available on the Federal e-Rulemaking Portal www.regulations.gov.

FOR FURTHER INFORMATION CONTACT: Erin Wilkinson, 301-427-8561; sca.rulemaking@noaa.gov.

SUPPLEMENTARY INFORMATION: On May 2, 2013, NMFS published a proposed rule in the Federal Register (78 FR 25685) to implement provisions of the SCA that prohibit any person from removing any of the fins of a shark at sea, possessing shark fins on board a fishing vessel unless they are naturally attached to the corresponding carcass, transferring or receiving fins from one vessel to another at sea unless the fins are naturally attached to the corresponding carcass, landing shark fins unless they are naturally attached to the corresponding carcass, or landing shark carcasses without their fins naturally attached. NMFS proposes this action to amend existing regulations and make them consistent with the SCA.

Public Comment Extension

The public comment period for the proposed rule ends on July 8, 2013. NMFS is extending the public comment period for an additional 23 days until July 31, 2013. The extension of the comment period ensures that NMFS provides adequate time for stakeholders and members of the public to comment on the proposed rule to implement the provisions of the Shark Conservation Act of 2010.

Authority: 16 U.S.C. 1801 et seq.

Dated: July 2, 2013.
Alan D. Risenhoover,
Director, Office of Sustainable Fisheries, performing the functions and duties of the Deputy Assistant Administrator for Regulatory Programs, National Marine Fisheries Service.

[FR Doc. 2013-16298 Filed 7-5-13; 8:45 am]

BILLING CODE 3510-22-P